ENVIRONMENTAL PROTECTION AGENCY

[EPA-HQ-OECA-2014-0523; FRL-9921-59-OEI]

Information Collection Request Submitted to OMB for Review and Approval; Comment Request; Air Stationary Source Compliance and Enforcement Information Reporting (Renewal)

AGENCY: Environmental Protection Agency (EPA).

ACTION: Notice.

SUMMARY: The Environmental Protection Agency has submitted an information collection request (ICR), “Air Stationary Source Compliance and Enforcement Information Reporting” (EPA ICR No. 0107.11, OMB Control No. 2060-0096) to the Office of Management and Budget (OMB) for review and approval in accordance with the Paperwork Reduction Act (44 U.S.C. 3501 et seq.). This is a proposed extension of the ICR, which is currently approved through January 30, 2015. Public comments were previously requested via the Federal Register (79 FR 49511) on August 21, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 11, 2015.

ADDRESSES: Submit your comments, referencing Docket ID Number EPA-HQ-OECA-2014-0523, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: David A. Meredith, Enforcement Targeting and Data Division, Office of Compliance, (2222A), Environmental Protection Agency, 1200 Pennsylvania Ave. NW., Washington, DC 20460; telephone number: (202) 564-4152; email address: meredith.david@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Air Stationary Source Compliance and Enforcement Information Reporting is an activity whereby State, Local, Tribal, Territorial and Commonwealth governments (hereafter referred to as “delegated agencies”) report air stationary source compliance and enforcement information to the U.S. Environmental Protection Agency (the EPA or the Agency) on a regular basis. The information is provided to the EPA via input to the Integrated Compliance Information System (ICIS). ICIS replaced the Air Facility System (AFS) as the database of record for this information. The modules within ICIS that are used to report Air related data are collectively referred to as ICIS-Air. The majority of delegated agencies maintain their own data systems and extract data from it and report it to ICIS either electronically or manually. A small number of delegated agencies use ICIS as their only data system. The information provided to the EPA includes source information, compliance monitoring activities, violation determinations, and enforcement activities. The EPA uses this information to assess the health of the compliance and enforcement program established under the Clean Air Act (CAA).

Form Numbers: None.

Respondents/affected entities: The respondents for the information collection activity are state, local, territorial, and tribal delegated agencies. These agencies are classified in NAICS 924110. Source compliance data assembled by delegated agencies covers numerous NAICS categories. The total number of respondents is 99 (50 states, the District of Columbia, Puerto Rico, the Virgin Islands, Guam, American Samoa, the Mariana Protectorate and 43 local air pollution control agencies).

Respondent's obligation to respond: Mandatory. The CAA calls for state, local, federal and tribal governments to implement the Act in partnership to reduce pollution. It is well understood that working closely with government partners leads to better programs that are more effective and efficient. For regulatory programs, EPA often has discussions early in the rulemaking process with government partners (federal, state, local and tribal) and with interested parties such as affected industries, environmental groups, and communities. After a rule is complete, EPA works with government partners and stakeholders to achieve effective implementation. This ICR supports the partnership established for CAA program implementation by facilitating regular information exchange. Section 114(a)(1) of the CAA, 42 U.S.C. 7414(a)(1), establishes that EPA may request information on a one-time, periodic or continuous basis for the purpose of carrying out any provision of the Act. Individually, certain provisions of the Act and its implementing regulations include specific language for the collection of some of the information requested by this ICR. For example, 110(p) of the CAA, 42 U.S.C. 7410(p), establishes that EPA may request information to assess the implementation of any state implementation plan. 40 CFR 70.4(j)(1) (title V) requires that any information obtained or used in the administration of a title V permit program be available to EPA. This ICR encompasses this information in addition to information that assists with carrying out additional provisions of the Act. Related provisions include but are not limited to New Source Performance Standards (NSPS) in 40 CFR part 60, National Emission Standards for Hazardous Air Pollutants (NESHAP) in 40 CFR part 61 and part 63, and New Source Review (NSR) permitting regulations in 40 CFR part 51 and part 52. The periodic reporting of regulated source information, compliance monitoring, violation determination, and enforcement information is the subject of this renewal ICR.

Estimated number of respondents: 99.

Frequency of response: Every 60 days at minimum.

Total estimated burden: 51,413 hours (per year). Burden is defined at 5 CFR 1320.03(b).

Total estimated cost: $2,688,900 (per year).

Changes in the Estimates: There is a decrease of 2,971 hours in the total estimated respondent burden compared with the ICR currently approved by OMB. This decrease is as a result of slight shifts in the distribution of agencies by size, due to a continued reduction in the universe of major air sources.

Courtney Kerwin,
Acting Director, Collection Strategies Division.

[FR Doc. 2015-00243 Filed 1-9-15; 8:45 am]

BILLING CODE P